NATIONAL AERONAUTICS AND SPACE ADMINISTRATION

[Notice 00-062]

Notice of prospective patent license

AGENCY: National Aeronautics and Space Administration.

ACTION: Notice of prospective patent license.

SUMMARY: NASA hereby gives notice that MIMIC Health Technologies, LLC, of Santa Barbara, California, has applied for an exclusive patent license to practice the invention described and claimed in U.S. Patent No. 6,047,216, entitled “Endothelium Preserving Microwave Treatment for Atherosclerosis,” including divisions thereof, which is assigned to the United States of America as represented by the Administrator of the National Aeronautics and Space Administration. Written objections to the prospective grant of a license should be sent to Johnson Space Center.

DATES: Responses to this notice must be received by July 31, 2000.

FOR FURTHER INFORMATION CONTACT: Hardie R. Barr, Patent Attorney, Johnson Space Center, Mail Stop HA, Houston, TX 77058; telephone (281) 483-1003.

Dated: May 19, 2000.
Edward A. Frankle,
General Counsel.

[FR Doc. 00-13358 Filed 5-26-00; 8:45 am]

BILLING CODE 7510-01-P